DEPARTMENT OF HOUSING AND URBAN DEVELOPMENT

[Docket No. FR-5907-N-29]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), call the toll-free Title V information line at 800-927-7588 or send an email to title5@hud.gov.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 12-07, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 or send an email to title5@hud.gov for detailed instructions, or write a letter to Ann Marie Oliva at the address listed at the beginning of this Notice. Included in the request for review should be the property address (including zip code), the date of publication in the Federal Register, the landholding agency, and the property number.

For more information regarding particular properties identified in this Notice (e.g., acreage, floor plan, condition of property, existing sanitary facilities, exact street address), providers should contact the appropriate landholding agencies at the following addresses: AGRICULTURE: Ms. Debra Kerr, Department of Agriculture, OPPM, Property Management Division, Agriculture South Building, 300 7th Street SW., Washington, DC 20024, (202) 720-8873; AIR FORCE: Mr. Robert E. Moriarty, P.E., AFCEC/CI, 2261 Hughes Avenue, Ste. 155, JBSA Lackland, TX 78236-9853, (315) 225-7384; COE: Ms. Brenda Johnson-Turner, HQUSACE/CEMP-CR, 441 G Street NW., Washington, DC 20314, (202) 761-7238; ENERGY: Mr. David Steinau, Department of Energy, Office of Asset Management (MA-50), 1000 Independence Ave. SW., Washington, DC 20585, (202) 287-1503; GSA: Mr. Flavio Peres, General Services Administration, Office of Real Property Utilization and Disposal, 1800 F Street NW., Room 7040, Washington, DC 20405, (202) 501-0084; INTERIOR: Mr. Michael Wright, Acquisition & Property Management, Department of the Interior, 3960 N. 56th Ave. #104, Hollywood, FL 33021; (443) 223-4639; NASA: Mr. William Brodt, National Aeronautics and Space Administration, 300 E Street SW., Room 2P85, Washington, DC 20546, (202) 358-1117; NAVY: Mr. Steve Matteo, Department of the Navy, Asset Management Division, Naval Facilities Engineering Command, Washington Navy Yard, 1330 Patterson Ave. SW., Suite 1000, Washington, DC 20374; (202) 685-9426; (These are not toll-free numbers).

Dated: July 7, 2016.
Brian P. Fitzmaurice,
Director, Division of Community Assistance, Office of Special Needs Assistance Programs.

TITLE V, FEDERAL SURPLUS PROPERTY PROGRAM FEDERAL REGISTER REPORT FOR 07/15/2016

Suitable/Available Properties

Building

Alaska

Mobile Home #1; 1072

Forest Service Compound

Yakutat AK 99689

Landholding Agency: Agriculture

Property Number: 15201620050

Status: Excess

Comments: off-site removal only; 30+ yrs. old; 1,087 sq. ft.; residential; 24+ mos. vacant; poor condition; $6,500 (estimate) in repairs; contact Agriculture for more information.

Mobile Home

Forest Service Compound

Thorne Bay AK 99919

Landholding Agency: Agriculture

Property Number: 15201630001

Status: Excess

Directions: #1-8403

Comments: off-site removal only; 27+ yrs. old; 967 sq. ft.; residential; poor condition; vacant 12+ mos.; $6,500 estimate for maintenance; contact Agriculture for more information.

Mobile Home #3; 1074

Forest Service Compound

Yakutat AK 99689

Landholding Agency: Agriculture

Property Number: 15201630002

Status: Excess

Comments: off-site removal only; 25+ yrs. old; 1,140 sq. ft.; residential; 24+ mos. vacant; poor condition; $6,500 estimate repairs; contact Agriculture for more information.

Port Houghton Cabin

15201630003 of Juneau Ak.

45 miles North of Petersburg AK.

Petersburg AK

Landholding Agency: Agriculture

Property Number: 15201630003

Status: Excess

Directions: #1060

Comments: off-site removal only; 19+ yrs. old; 660 sq. ft.; cabin; 12+ mos. vacant; good condition; $2,000 maintenance; contact Agriculture for more information.

Oregon

China Hat Food Cellar

(1259.004621)

NF Road 18, East Bend Fort Rock

La Pine OR 97739

Landholding Agency: Agriculture

Property Number: 15201620049

Status: Excess

Directions: Building #2608, Region 06, Forest 01; cinder block structure w/no utilities; major repairs/rehab prior to use

Comments: off-site removal only; 56+ yrs. old; 120 sq. ft.; storage; vacant 180+ mos.; very poor condition; contact Agriculture for more information.

Wisconsin

William J. Huempfner USARC

2426 Prairie Avenue

Beloit WI 54656

Landholding Agency: GSA

Property Number: 54201620028

Status: Surplus

GSA Number: I-D-WI-612

Directions: Landholding Agency: Army; Disposal Agency: GSA

Comments: 54+ yrs. old; 4,316 sq. ft.; office; can only access through neighboring company parking lot; sits on 3.56 acres of land; contact GSA for more information.

Bursch Residence, Garage and

and Pole Shed Trace 12-14

Bursch Residence, Garage and Pole Shed

Somerset WI 54025

Landholding Agency: Interior

Property Number: 61201620019

Status: Excess

Directions: Trace 12-14

Comments: off-site removal only; 60+ yrs. old; 1,832 sq. ft.; difficult to remove due to size/type; residential; 19+ mos. vacant; fair condition; escort required; contact Interior for more information.

Land

Tennessee

Parcel G, 20.96+ acres

Bethel Valley Road

Oak Ridge TN 37830

Landholding Agency: GSA

Property Number: 54201630001

Status: Surplus

GSA Number: 4-B-TN-0664-AE

Directions: Landholding Agency: The parcel is located off Bethel Valley Road southeast of the intersection of Bethel Valley and Scarboro Roads. Landholding Agency: DOE; Disposal Agency: GSA; vacant land w/mixed grasses, herbaceous plants, large shrubs, & scattered trees; groundwater not permitted for use for agricultural, drinking, or industrial purposes; must connect to a regulatory approved water system to use property; creek flows through site with floodplain & wetlands; sanitary water sewer easements on property; DOE will retain an ingress/egress easement on the property; man-made ponds formerly used to treat swine waste.

Comments: contact GSA for more details regarding property

Unsuitable Properties

Building

California

YSC Tire Building, 1030 So. Main Street, Yreka CA 96097, Landholding Agency: Agriculture.

Property Number: 15201620051

Status: Excess

Directions: Klamath National Forest Center, Yreka Service Center; RP#4901009 CN#1014.003771 UAI#N/A

Comments: property located within floodway which has not been corrected or contained.

Reasons: Floodway.

High Glade Lookout, Storage Shed, 39.209572 N., 122.810803 W, Elevation 4,847, Nice CA 95464.

Landholding Agency: Agriculture

Property Number: 15201630004

Status: Unutilized

Directions: RP #12126 CN #2117.003931

Comments: documented deficiencies: concrete roof collapsing; exterior walls cracking; clear threat to physical safety

Reasons: Extensive deterioration

Florida

3 Buildings, Cape Canaveral Air Force Station, CCAFS FL.

Landholding Agency: NASA

Property Number: 71201630001

Status: Unutilized

Directions: 77630; 80700J; 80700K

Comments: public access denied and no alternative method to gain access without compromising national security.

Reasons: Secured Area

13 Buildings

Kennedy Space Center

KSC FL 32899

Landholding Agency: NASA

Property Number: 71201630002

Status: Unutilized

Directions: J8-1703; K6-0792A; K6-1446E; K6-1446L; K6-1996L; K6-1996U; K6-1996Q; K6-1996V; L7-0988; K7-0852; M6-0486N; TRM-051; J7-0331

Comments: public access denied and no alternative method to gain access without compromising national security.

Reasons: Secured Area

60541

Cape Canaveral Air Force Station

CCAFS FL 32929

Landholding Agency: NASA

Property Number: 71201630003

Status: Unutilized

Comments: public access denied and no alternative method to gain access without compromising national security.

Reasons: Secured Area

20 Buildings

Kennedy Space Center

KSC FL 32899

Landholding Agency: NASA

Property Number: 71201630004

Status: Unutilized

Directions: M7-0433; M7-0656; J6-0306; K6-1298; K6-1844E; M6-0537; M6-0584; J7-0331; J6-0407; J8-1614A; J8-1614; K6-1446D; J8-2059; K6-1844E; K6-1844D; M6-0392; K6-2196; M6-0946; K6-1446; TRI-0477

Comments: public access denied and no alternative method to gain access without compromising national security.

Reasons: Secured Area

Georgia

Savannah HHIAP

Facility 1906

XDQU

1401 Robert B. Miller Dr.

Garden City GA 31408

Landholding Agency: Air Force

Property Number: 18201630002

Status: Excess

Comments: public access denied and no alternative method to gain access without compromising national security.

Reasons: Secured Area

Maryland

Feidt House Tract 79-114

Across from 10692 Dam 5 Road

Clear Spring MD 21722

Landholding Agency: Interior

Property Number: 61201620018

Status: Unutilized

Comments: documented deficiencies: documentation provided represents a clear threat to personal physical safety; largely collapsed & is a complete loss; no remaining structural integrity.

Reasons: Extensive deterioration

Anthony/Donegan House

Tract 92-104

1609 Pearre Road

Hancock MD 21750

Landholding Agency: Interior

Property Number: 61201620021

Status: Unutilized

Comments: property loc. w/in floodway which has not been correct or contained; Doc. deficiencies: doc. provided represents a clear threat to personal physical safety; largely collapsed & no remaining structure.

Reasons: Extensive deterioration; Floodway

Clay House Tract 92-103

150 Feet West of 1609 Pearre Road

Hancock MD 21750

Landholding Agency: Interior

Property Number: 61201620022

Status: Unutilized

Comments: property loc. w/in floodway which has not been correct or contained; Doc. deficiencies: doc. provided represents a clear threat to personal physical safety; largely collapsed & no remaining structure.

Reasons: Floodway; Extensive deterioration

Ferry Hill Cottage

Tract 31-108

16500 Shepherdstown Pike

Sharpsburg MD 21782

Landholding Agency: Interior

Property Number: 61201630001

Status: Unutilized

Comments: documented deficiencies: integrity of structure is very poor; extensive water and mold damage; clear threat to physical safety.

Reasons: Extensive deterioration

Missouri

2 each Vault Toilets

Route 2 Box 2160 Pomme de Terre Lake Project

Damsite Park, Hickory County

Hermitage MO 65668

Landholding Agency: COE

Property Number: 31201620005

Status: Underutilized

Comments: property located within floodway which has not been correct or contained.

Reasons: Floodway

New Mexico

Los Alamos National Laboratory

18-0311

Los Alamos NM 87545

Landholding Agency: Energy

Property Number: 41201630001

Status: Excess

Directions: #18-0311

Comments: public access denied and no alternative method to gain access without compromising national security.

Reasons: Secured Area

Oregon

China Hat Bunkhouse

(1256.004621)

NF Road 18, East Bend Fort Rock

La Pine OR 97739

Landholding Agency: Agriculture

Property Number: 15201620047

Status: Excess

Directions: Building #1313, Region 06, Forest 01

Comments: documented deficiencies: extensive rodent infestation; ceiling damage; holes in walls; clear threat to physical safety.

Reasons: Extensive deterioration

China Hat Guard House

(1255.004621)

NF Road 18, East Bend Fort Rock

La Pine OR 97739

Landholding Agency: Agriculture

Property Number: 15201620048

Status: Excess

Directions: Building #1312, Region 06, Forest 01

Comments: documented deficiencies: Extensive rodent infestation; ceiling damage; holes in walls; clear threat to physical safety.

Reasons: Extensive deterioration.

Puerto Rico

Building 10

Punta Salinas Radar Site

Toa Baja PR

Landholding Agency: Air Force

Property Number: 18201630001

Status: Unutilized

Comments: Public access denied and no alternative to gain access without compromising national security.

Reasons: Secured Area

Texas

Building 4143

Fort Worth Joint Reserve Base

Fort Worth TX 76127

Landholding Agency: Navy

Property Number: 77201630001

Status: Unutilized

Comments: Public access denied and no alternative method to gain access without compromising national security.

Reasons: Secured Area

Wisconsin

Little Sand Bay Visitor Center

32660 Little Sand Bay Road

Bayfield WI 54814

Landholding Agency: Interior

Property Number: 61201620020

Status: Excess

Comments: Documented deficiencies: Documentation provided represents a clear threat to personal physical safety; falling & deteriorating foundation; potential hanta virus; mold & asbestos; contaminated soil.

Reasons: Extensive deterioration

[FR Doc. 2016-16462 Filed 7-14-16; 8:45 am]

BILLING CODE 4210-67-P